DEPARTMENT OF ENERGY

Federal Energy Regulatory Commission

Combined Notice of Filings #1

Take notice that the Commission received the following electric rate filings:

Docket Numbers: ER06-1128-001.

Applicants: Mankato Energy Center, LLC.

Description: Notification of non-material change in status of Mankato Energy Center, LLC.

Filed Date: 4/28/17.

Accession Number: 20170428-5549.

Comments Due: 5 p.m. ET 5/19/17.

Docket Numbers: ER16-2186-000.

Applicants: Deseret Generation & Transmission Co-operative.

Description: Response to March 28, 2017 Request for Additional Information of Deseret Generation & Transmission Co-operative, Inc.

Filed Date: 4/28/17.

Accession Number: 20170428-5530.

Comments Due: 5 p.m. ET 5/19/17.

Docket Numbers: ER17-1442-001.

Applicants: Axiall, LLC.

Description: Tariff Amendment: Amendment to MBR Application Filing to be effective 5/26/2017.

Filed Date: 5/2/17.

Accession Number: 20170502-5115.

Comments Due: 5 p.m. ET 5/16/17.

Docket Numbers: ER17-1483-001.

Applicants: California Power Exchange Corporation.

Description: Tariff Amendment: Corrected Rate Filing for Rate Period 31 to be effective 7/1/2017.

Filed Date: 5/1/17.

Accession Number: 20170501-5293.

Comments Due: 5 p.m. ET 5/22/17.

Docket Numbers: ER17-1514-000.

Applicants: Florida Power & Light Company.

Description: § 205(d) Rate Filing: FPL-FPUC- Amended and Restated Preliminary Engineering Design, Permitting, etc. to be effective 5/2/2017.

Filed Date: 5/1/17.

Accession Number: 20170501-5231.

Comments Due: 5 p.m. ET 5/22/17.

Docket Numbers: ER17-1515-000.

Applicants: Midcontinent Independent System Operator, Inc.

Description: § 205(d) Rate Filing: 2017-05-01_Filing to revise MRES Attachment O inc. RTO Adder Request to be effective 7/1/2017.

Filed Date: 5/1/17.

Accession Number: 20170501-5243.

Comments Due: 5 p.m. ET 5/22/17.

Docket Numbers: ER17-1516-000.

Applicants: Southwest Power Pool, Inc.

Description: § 205(d) Rate Filing: 3316 Carthage Water & Electric Plant NITSA and NOA to be effective 4/1/2017.

Filed Date: 5/1/17.

Accession Number: 20170501-5251.

Comments Due: 5 p.m. ET 5/22/17.

Docket Numbers: ER17-1517-000.

Applicants: Midcontinent Independent System Operator, Inc.

Description: § 205(d) Rate Filing: 2017-05-01_Emergency Energy Pricing Construct Filing to be effective 7/1/2017.

Filed Date: 5/1/17.

Accession Number: 20170501-5252.

Comments Due: 5 p.m. ET 5/22/17.

Docket Numbers: ER17-1518-000.

Applicants: Cleco Power LLC.

Description: § 205(d) Rate Filing: Reactive Power Revenue Requirements to be effective 7/1/2017.

Filed Date: 5/1/17.

Accession Number: 20170501-5255.

Comments Due: 5 p.m. ET 5/22/17.

Docket Numbers: ER17-1519-000.

Applicants: PECO Energy Company, PJM Interconnection, L.L.C.

Description: § 205(d) Rate Filing: PECO Energy Company submits OATT Att. H Formula Rate/Protocols to be effective 7/1/2017.

Filed Date: 5/1/17.

Accession Number: 20170501-5266.

Comments Due: 5 p.m. ET 5/22/17.

Docket Numbers: ER17-1520-000.

Applicants: Duke Energy Carolinas, LLC.

Description: § 205(d) Rate Filing: DEC-Lockhart Revised PPA RS No. 332 to be effective 1/1/2016.

Filed Date: 5/2/17.

Accession Number: 20170502-5007.

Comments Due: 5 p.m. ET 5/23/17.

Docket Numbers: ER17-1521-000.

Applicants: PJM Interconnection, L.L.C.

Description: § 205(d) Rate Filing: 1st Quarter 2017 Updates to OA/RAA Member Lists to be effective 3/31/2017.

Filed Date: 5/1/17.

Accession Number: 20170501-5296.

Comments Due: 5 p.m. ET 5/22/17.

Docket Numbers: ER17-1522-000.

Applicants: Playa Solar 1, LLC.

Description: Baseline eTariff Filing: Application for Initial Market-Based Rate Tariff and Granting Certain Waivers to be effective 5/2/2017.

Filed Date: 5/1/17.

Accession Number: 20170501-5301.

Comments Due: 5 p.m. ET 5/22/17.

Docket Numbers: ER17-1523-000.

Applicants: Southwest Power Pool, Inc.

Description: § 205(d) Rate Filing: Corn Belt Formula Rate—Grundy Center and Sumner to be effective 7/1/2017.

Filed Date: 5/1/17.

Accession Number: 20170501-5303.

Comments Due: 5 p.m. ET 5/22/17.

Docket Numbers: ER17-1524-000.

Applicants: Southwest Power Pool, Inc.

Description: § 205(d) Rate Filing: Attachment AF Revisions Regarding Review of Mitigated Resource Offer Costs to be effective 7/1/2017.

Filed Date: 5/2/17.

Accession Number: 20170502-5074.

Comments Due: 5 p.m. ET 5/23/17.

Docket Numbers: ER17-1525-000.

Applicants: WSPP Inc.

Description: § 205(d) Rate Filing: List of Members Update 2017 to be effective 4/26/2017.

Filed Date: 5/2/17.

Accession Number: 20170502-5091.

Comments Due: 5 p.m. ET 5/23/17.

Docket Numbers: ER17-1526-000.

Applicants: Southern California Edison Company.

Description: Tariff Cancellation: Notices of Cancellation IFA & DSA Simi Valley Landfill Energy SA Nos. 92 & 91 to be effective 7/16/2017.

Filed Date: 5/2/17.

Accession Number: 20170502-5097.

Comments Due: 5 p.m. ET 5/23/17.

Docket Numbers: ER17-1527-000.

Applicants: Southern California Edison Company.

Description: Tariff Cancellation: Notices of Cancellation IFA & DSA El Sobrante Landfill Energy SA Nos. 83 & 84 to be effective 7/16/2017.

Filed Date: 5/2/17.

Accession Number: 20170502-5100.

Comments Due: 5 p.m. ET 5/23/17.

Take notice that the Commission received the following electric securities filings:

Docket Numbers: ES17-23-000.

Applicants: Transource Maryland, LLC.

Description: Application under Section 204 of the Federal Power Act For Authorization to Issue Securities of Transource Maryland, LLC.

Filed Date: 4/27/17.

Accession Number: 20170427-5587.

Comments Due: 5 p.m. ET 5/18/17.

Docket Numbers: ES17-24-000.

Applicants: Transource Pennsylvania, LLC.

Description: Application under Section 204 of the Federal Power Act for Authorization to Issue Securities of Transource Pennsylvania, LLC.

Filed Date: 4/27/17.

Accession Number: 20170427-5595.

Comments Due: 5 p.m. ET 5/18/17.

Docket Numbers: ES17-25-000; ES17-26-000; ES17-27-000; ES17-28-000; ES17-29-000; ES17-30-000.

Applicants: Entergy Arkansas, Inc., Entergy Louisiana, LLC, Entergy Mississippi, Inc., Entergy New Orleans, Inc., Entergy Texas, Inc., System Energy Resources, Inc.

Description: Joint Application for Authorizations under FPA Section 204 of Entergy Arkansas, Inc., et al.

Filed Date: 4/28/17.

Accession Number: 20170428-5564.

Comments Due: 5 p.m. ET 5/19/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2017.
Kimberly D. Bose,
Secretary.

[FR Doc. 2017-09251 Filed 5-5-17; 8:45 am]

BILLING CODE 6717-01-P